DEPARTMENT OF ENERGY

Federal Energy Regulatory Commission

[Docket No. RP01-415-000]

El Paso Natural Gas Company; Notice of Proposed Changes in FERC Gas Tariff

May 16, 2001.

Take notice that on May 11, 2001, El Paso Natural Gas Company (El Paso) tendered for filing as part of its FERC Gas Tariff, Second Revised Volume No. 1-A, the following tariff sheets, with an effective date of June 1, 2001:

Fourth Revised Sheet No. 117

Third Revised Sheet No. 314

El Paso states that the tariff sheets are being filed to revise the Billing Determinant for El Paso Electric Company to 37,318 dth per day and to revise the related revenue crediting threshold.

Any person desiring to protest said filing should file a protest with the Federal Energy Regulatory Commission, 888 First Street, NE., Washington, DC 20426, in accordance with Section 385.211 of the Commission's Rules and Regulations. All such protests must be field in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12781 Filed 5-21-01; 8:45 am]

BILLING CODE 6717-01-M